COMMITTEE FOR PURCHASE FROM PEOPLE WHO ARE BLIND OR SEVERELY DISABLED

Procurement List Proposed Additions

AGENCY: Committee for Purchase From People Who Are Blind or Severely Disabled.

ACTION: Proposed additions to the Procurement List.

SUMMARY: The Committee is proposing to add services to the Procurement List that will be provided by nonprofit agencies employing persons who are blind or have other severe disabilities.

Comments Must Be Received On or Before: 6/11/2012.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 8501-8506) in connection with the services proposed for addition to the Procurement List.

Comments on this certification are invited. Commenters should identify the statement(s) underlying the certification on which they are providing additional information.

End of Certification

The following services are proposed for addition to the Procurement List for production by the nonprofit agencies listed:

Services

Service Type/Location: Mess Attendant, Joint Expeditionary Base (JEB) Little Creek, Ft Story East Campus, Light House Cafe, Building 864, 864 Hospital Road, Virginia Beach, VA.

NPA: Community Alternatives, Incorporated, Norfolk, VA.

Contracting Activity: Dept of the Navy, NAVSUP FLT LOG CTR Norfolk, Norfolk, VA.

For this project, the DOD contracting activity specifically identified its requirement as Mess Attendant Service in its Performance Work Statement (PWS). The PWS describes Mess Attendant service tasks as post cleaning of eating utensils, compartmented trays, beverage containers, insulated food containers and inserts, full vegetable preparation; prepare, maintain, and clean dining areas; clean condiment containers, clean spills and remove soiled dinnerware, clean dining room tables, chairs, and booths, clean dining room walls, baseboards, window ledges, doors/door frames, ceiling fans, pictures, wall art, artificial plants, light fixtures, globes/lenses, trophies/display cases, drapes/curtains, venetian blinds and curtain rods; display and remove holiday decorations, buss and replace tray carts during meal periods, service and maintain patron self-service areas, clean food service equipment, utensils, and perform dishwashing, clean and sanitize all pots, pans, utensils, storage shelves, and racks; provide equipment cleaning service, perform facility maintenance and sanitation; provide trash and garbage service; preparation of facilities for pest control fogging; provide pre-opening and post vector control clean-up services.

Service Type/Location: Custodial Services, Caribou-Targhee National Forest, St. Anthony Supervisor's Office, U.S. Forest Service, 499 N 2400 E St., St. Anthony, ID.

NPA: Development Workshop, Inc., Idaho Falls, ID.

Contracting Activity: Dept of Agriculture, Forest Service, Caribou-Targhee National Forest, Idaho Falls, ID.

Service Type/Location: Custodial and Grounds Services, Armed Forces Medical Examiner System, Building 115, 115 Purple Heart Drive, Dover AFB, DE.

NPA: The Chimes, Inc., Baltimore, MD.

Contracting Activity: Dept of the Army, W4PZ USA MED RSCH ACQUIS ACT, Fort Detrick, MD.

Barry S. Lineback,
Director, Business Operations.

[FR Doc. 2012-11414 Filed 5-10-12; 8:45 am]

BILLING CODE 6353-01-P